NATIONAL SCIENCE FOUNDATION

Agency Information Collection Activities: Comment Request; Grantee Reporting Requirements for the NSF Accelerating Research Through International Network-to-Network Collaboration (AccelNet) Program

AGENCY: National Science Foundation.

ACTION: Notice.

SUMMARY: The National Science Foundation (NSF) is announcing plans to establish this collection. In accordance with the requirements of the Paperwork Reduction Act of 1995, we are providing opportunity for public comment on this action. After obtaining and considering public comment, NSF will prepare the submission requesting Office of Management and Budget (OMB) clearance of this collection for no longer than 3 years.

DATES: Written comments on this notice must be received by December 7, 2020 to be assured consideration. Comments received after that date will be considered to the extent practicable. Send comments to address below.

FOR FURTHER INFORMATION CONTACT: Suzanne H. Plimpton, Reports Clearance Officer, National Science Foundation, 2415 Eisenhower Avenue, Suite W18200, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION: Title of Collection: Grantee Reporting Requirements for the NSF Accelerating Research through International Network-to-Network Collaboration (AccelNet) Program.

OMB Number: 3145-NEW.

Expiration Date of Approval: Not applicable.

Type of Request: Intent to seek approval to establish an information collection.

Proposed Project: The NSF's Office of International Science and Engineering (OISE), within the Office of the Director, serves a wide range of grantees across 3 major programs. The AccelNet (Accelerating Research through International Network-to-Network Collaboration) program is designed to link U.S. research networks with complementary networks abroad to coordinate approaches to address grand research challenges. The goals of the program are to accelerate the process of discovery and to prepare the next generation of U.S. researchers to conduct and lead international collaborations.

The NSF AccelNet program has two award types: Design and Implementation. AccelNet Design projects are up to a 24 month planning opportunity, and allows the grantees to determine the research and professional development needs, priorities, and goals to link networks as well as to develop partnerships and collaboration strategies. Implementation track projects support more established networks of networks to implement coordination across networks. As such, AccelNet Implementation awards have an expected period of performance of 36 to 60 months.

Reporting Requirements in addition to the standard reporting requirements include information on:

• International collaborators (country, affiliation, title, career stage);

• International location(s) visited, duration of stay, and research activity undertaken by all participants, noting the career stage of each participant; and

• Metrics of success demonstrating progress towards achieving the specific project goals, and the goals of the AccelNet program overall.”

Awardees will be required to participate in program-level evaluation by which NSF can assess implementation processes and progress toward program level outcomes. NSF, an NSF contractor, or a grantee on behalf of NSF, may periodically conduct program evaluations or special projects that necessitate access to project level staff and data. This activity may occur at any time during the grant period and could occur after the grant has ended. Project-level participation includes responding to inquiries, interviews and other methods of common data collection and/or aggregation across individual grants. In addition, PIs and project-level evaluators will be asked to assist in developing a program evaluation that will mutually benefit the agency and program participants.

Annual reports are required for the duration of the project. We will use this report to collect information on the technical progress of the funded NSF work, which will allow the managing Program Director to monitor the project and ensure that the award is in good standing. This report will also be used to ensure awardee compliance with both AccelNet-wide and NSF-wide compliance requirements. Finally, it will be used to collect data by the Office of International Science and Engineering for program evaluation.

All the information collected is for internal use by the Office of International Science and Engineering, and will not be made publicly available.

Burden on the Public: Estimated at 5 hours per award for 10 to 14 awards for a total of 70 hours (per year).

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

Dated: October 5, 2020.
Suzanne H. Plimpton,
Reports Clearance Officer, National Science Foundation.

[FR Doc. 2020-22318 Filed 10-7-20; 8:45 am]

BILLING CODE 7555-01-P